NUCLEAR REGULATORY COMMISSION

Application for a License To Export Major Components for Nuclear Reactors

Pursuant to 10 CFR 110.70 (b)(1) “Public Notice of Receipt of an Application,” please take notice that the Nuclear Regulatory Commission (NRC) has received the following request for an export license. Copies of the request are available electronically through ADAMS and can be accessed through the Public Electronic Reading Room (PERR) link http://www.nrc.gov/reading-rm.html at the NRC Homepage.

A request for a hearing or petition for leave to intervene may be filed within thirty days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR 49139 (Aug. 28, 2007). Information about filing electronically is available on the NRC's public Web site at http://www.nrc.gov/site-help/e-submittals.html. To ensure timely electronic filing, at least five days prior to the filing deadline, the petitioner/requestor should contact the Office of the Secretary by e-mail at HEARINGDOCKET@NRC.GOV, or by calling (301) 415-1677, to request a digital ID certificate and allow for the creation of an electronic docket.

In addition to a request for hearing or petition for leave to intervene, written comments, in accordance with 10 CFR 110.81 should be submitted within thirty days after publication of this notice in the Federal Register to Office of the Secretary, U.S. Nuclear Regulatory Commission, Washington, DC 20555, Attention: Rulemaking and Adjudications.

In its review of applications for licenses and license amendments involving exports of major components of a utilization facility as defined in 10 CFR Part 110 and noticed herein, the Commission does not evaluate the health, safety or environmental effects in the recipient nation of the facility or facilities to be exported.

The information concerning this license application follows:

NRC Application for License To Export Major Components of a Nuclear Utilization Facility
Name of applicant, date of application, date received, application No., docket No. | Total quantity/ description of major components | End use | Country of destination
Curtiss-Wright Electro-Mechanical Corporation, May 14, 2008, May 15, 2008, XR172, 11005752 | As specified in 10 CFR Part 110, Appendix A Items (4) and (9), one (1) complete primary reactor coolant pump (RCP) or major sub-assemblies thereof, and various raw materials and parts/components to be processed into finished parts, components, sub-assemblies and assemblies in the People's Republic of China for return to applicant and incorporation into primary RCPs. Approximate Dollar Value: Proprietary | To support construction of four (4) Westinghouse AP-1000 pressurized water reactors (PWRs) authorized for export by NRC license XR169/01 to Sanmen and Haiyang nuclear power plants. Applicant seeks to add one new ultimate consignee (testing facility for complete AP-1000 RCP) and four (4) new intermediate consignees (processing facilities to finish RCP parts) to the consignees listed on XR169/01 | People's Republic of China.

For the U.S. Nuclear Regulatory Commission.

Dated this 11th day of June 2008 at Rockville, Maryland.
Margaret M. Doane,
Director, Office of International Programs.

[FR Doc. E8-14002 Filed 6-19-08; 8:45 am]

BILLING CODE 7590-01-P